DEPARTMENT OF COMMERCE

National Oceanic and Atmospheric Administration

RIN 0648-XU47

Pacific Fishery Management Council; Public Meetings

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 5-11, 2010. The Pacific Council meeting will begin on Saturday, March 6, 2010 at 10 a.m., reconvening each day through Thursday, March 11, 2010. All meetings are open to the public, except a closed session will be held from 11 a.m. until 12 noon on Saturday, March 6 to address litigation and personnel matters. The Pacific Council will meet as late as necessary each day to complete its scheduled business.

ADDRESSES: The meetings will be held at the Doubletree Hotel Sacramento, 2001 Point West Way, Sacramento, CA 95815; telephone: (916) 929-8855.

Council address: Pacific Fishery Management Council, 7700 NE Ambassador Place, Suite 101, Portland, OR 97220.

FOR FURTHER INFORMATION CONTACT: Dr. Donald O. McIsaac, Executive Director; telephone: (503) 820-2280 or (866) 806-7204 toll free; or access the Pacific Council website, http://www.pcouncil.org for the current meeting location, proposed agenda, and meeting briefing materials.

SUPPLEMENTARY INFORMATION: The following items are on the Pacific Council agenda, but not necessarily in this order:

A. Call to Order

1. Opening Remarks and Introductions

2. Roll Call

3. Executive Director's Report

4. Approve Agenda

B. Open Comment Period

Comments on Non-Agenda Items

C. Habitat

Current Habitat Issues

D. Administrative Matters

1. National Oceanic and Atmospheric Administration Report on Activities of the Ocean Policy Task Force and Catch Shares Task Force

2. Council Comments on Proposed Revisions to National Standard 2 - Scientific Information

3. Legislative Matters

4. Approval of Council Meeting Minutes

5. Membership Appointments and Council Operating Procedures

6. Future Council Meeting Agenda and Workload Planning

E. Groundfish Management

1. National Marine Fisheries Service Report

2. Stock Assessment Planning for 2013-14 Management Measures

3. Pacific Whiting Harvest Specifications for 2010

4. Fishery Management Plan Amendment 23 - Annual Catch Limits and Accountability Measures

5. Consideration of Inseason Adjustments (Including Pacific Whiting Management Measures and Bycatch Limits)

6. Regulatory Deeming for Fishery Management Plan Amendment 20 - Trawl Rationalization and Amendment 21 - Intersector Allocation, and Planning for Community Fishery Associations

7. Informational Briefing on Environmental Impact Statement Development for the 2011-12 Management Specifications and Measures

8. Final Consideration of Inseason Adjustments (if needed)

F. Pacific Halibut Management

1. Report on the International Pacific Halibut Commission Meeting

2. Incidental Catch Regulations in the Salmon Troll and Fixed Gear Sablefish Fisheries

G. Salmon Management

1. National Marine Fisheries Service Report

2. Review of 2009 Fisheries and Summary of 2010 Stock Abundance Forecasts

3. Identification of Stocks Not Meeting Conservation Objectives

4. Identification of Management Objectives and Preliminary Definition of 2010 Salmon Management Options

5. Council Recommendations for 2010 Management Option Analysis

6. Further Council Direction for 2010 Management Options

7. Adoption of 2010 Management Options for Public Review

8. Appoint Salmon Hearings Officers

H. Coastal Pelagic Species Management

1. National Marine Fisheries Service Report

2. Fishery Management Plan Amendment 13 - Annual Catch Limits and Accountability Measures

3. Exempted Fishing Permits for 2010

SCHEDULE OF ANCILLARY MEETINGS
Friday, March 5, 2010 |
Scientific and Statistical Committee | 8 am | California Ballroom Salon 4
Habitat Committee | 8:30 am | Capitol Ballroom Salon A
Groundfish Management Team | 2 pm | California Ballroom Salon 2
Saturday, March 6, 2010 |
California State Delegation | 7 am | California Ballroom Salon 3
Oregon State Delegation | 7 am | Terrace Room
Washington State Delegation | 7 am | Sacramento Room
Groundfish Advisory Subpanel | 8 am | California Ballroom Salon 3
Groundfish Management Team | 8 am | California Ballroom Salon 2
Scientific and Statistical Committee | 8 am | California Ballroom Salon 4
Legislative Committee | 9 am | Terrace Room
Tribal Policy Group | As Needed | Del Paso Room
Tribal and Washington Technical Group | As Needed | El Camino Room
Sunday, March 7, 2010 |
California State Delegation | 7 am | California Ballroom Salon 3
Oregon State Delegation | 7 am | Terrace Room
Washington State Delegation | 7 am | Sacramento Room
Groundfish Advisory Subpanel | 8 am | California Ballroom Salon 3
Groundfish Management Team | 8 am | California Ballroom Salon 2
Salmon Advisory Subpanel | 8 am | Terrace Room
Salmon Technical Team | 8 am | Garden Room
Enforcement Consultants | 11 am | American River Room
Coastal Pelagic Species Advisory Subpanel | 1 pm | Capitol Ballroom Salon A
Coastal Pelagic Species Management Team | 1 pm | California Ballroom Salon 4
Tribal Policy Group | As Needed | Del Paso Room
Tribal and Washington Technical Group | As Needed | El Camino Room
Monday, March 8, 2010 |
California State Delegation | 7 am | California Ballroom Salon 3
Oregon State Delegation | 7 am | Terrace Room
Washington State Delegation | 7 am | Sacramento Room
Coastal Pelagic Species Advisory Subpanel | 8 am | Capitol Ballroom Salon A
Coastal Pelagic Species Management Team | 8 am | California Ballroom Salon 4
Enforcement Consultants | 8 am | American River Room
Groundfish Advisory Subpanel | 8 am | California Ballroom Salon 3
Groundfish Management Team | 8 am | California Ballroom Salon 2
Salmon Advisory Subpanel | 8 am | Terrace Room
Salmon Technical Team | 8 am | Garden Room
Tribal Policy Group | As Needed | Del Paso Room
Tribal and Washington Technical Group | As Needed | El Camino Room
Chair's Reception | 6 pm | Capitol Ballroom Salons B-C
Tuesday, March 9, 2010 |
California State Delegation | 7 am | California Ballroom Salon 3
Oregon State Delegation | 7 am | Terrace Room
Washington State Delegation | 7 am | Sacramento Room
Enforcement Consultants | 8 am | American River Room
Groundfish Advisory Subpanel | 8 am | California Ballroom Salon 3
Groundfish Management Team | 8 am | California Ballroom Salon 2
Salmon Advisory Subpanel | 8 am | Terrace Room
Salmon Technical Team | 8 am | Garden Room
Tribal Policy Group | As Needed | Del Paso Room
Tribal and Washington Technical Group | As Needed | El Camino Room
Wednesday, March 10, 2010 |
California State Delegation | 7 am | California Ballroom Salon 3
Oregon State Delegation | 7 am | Terrace Room
Washington State Delegation | 7 am | Sacramento Room
Groundfish Advisory Subpanel | 8 am | California Ballroom Salon 3
Groundfish Management Team | 8 am | California Ballroom Salon 2
Salmon Advisory Subpanel | 8 am | Terrace Room
Salmon Technical Team | 8 am | Garden Room
Enforcement Consultants | As Needed | American River Room
Tribal Policy Group | As Needed | Del Paso Room
Tribal and Washington Technical Group | As Needed | El Camino Room
Thursday, March 11, 2010 |
California State Delegation | 7 am | California Ballroom Salon 3
Oregon State Delegation | 7 am | Terrace Room
Washington State Delegation | 7 am | Sacramento Room
Salmon Advisory Subpanel | 8 am | Terrace Room
Salmon Technical Team | 8 am | Garden Room
Enforcement Consultants | As Needed | American River Room
Tribal Policy Group | As Needed | Del Paso Room
Tribal and Washington Technical Group | As Needed | El Camino Room

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: February 16, 2010.
William D. Chappell,
Acting Director, Office of Sustainable Fisheries, National Marine Fisheries Service.

[FR Doc. 2010-3198 Filed 2-18-10; 8:45 am]

BILLING CODE 3510-22-S